DEPARTMENT OF JUSTICE

Office of Justice Programs

[OMB Number 1121-0314]

Agency Information Collection Activities: Proposed Collection; Comments Requested Revision of a Previous Approved Collection: Firearm Inquiry Statistics Program

ACTION: 60-day notice of information collection under review.

The Department of Justice, Office of Justice Programs, Bureau of Justice Statistics, will be submitting the following information collection request to the Office of Management and Budget for review and approval in accordance with the Paperwork Reduction Act of 1995. The proposed information collected is published to obtain comments from the public and affected agencies. Comments are encouraged and will be accepted for “sixty days” until January 21, 2014. This process is conducted in accordance with 5 CFR 1320.10.

If you have comments especially the estimated public burden or associated response time, suggestions, or need a copy of the proposed information collection instrument with instructions or additional information, please contact Allina D. Lee, Justice Statistics Policy Analyst, Bureau of Justice Statistics, Office of Justice Programs, U.S. Department of Justice, 810 Seventh Street NW., Washington, DC 20531 (phone: 202-307-0765).

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of This Information Collection

(1) Type of information collection: Revision of a previously approved collection.

(2) The title of the Form/Collection: Firearm Inquiry Statistics (FIST) Program

(3) Agency form number, if any, and the applicable component of the Department of Justice sponsoring the collection: Not applicable.

(4) Affected public who will be asked to respond, as well as a brief abstract: Primary: State and local agencies. State and local agencies responsible for maintaining records on the number of background checks for firearm transfers or permits that were issued, processed, tracked, or conducted during the calendar year are asked to provide information about: The number of applications and denials for firearm transfers received or tracked by the agency; reasons why an application was denied; information on arrests that occurred when a denied person who submitted a false application or had an outstanding warrant was arrested by the checking agency or another agency that was notified (state agency responders only); appeals to an agency and court for reconsideration of a denial (state agency responders only); and reversals of a denial decision (state agency responders only). Through its Firearm Inquiry Statistics Program, the Bureau of Justice Statistics collects information on firearm background checks conducted by state and local agencies and combines this information with the Federal Bureau of Investigation's National Instant Criminal Background Check System transaction data to produce a national estimate of the number of applications received and denied and of the reasons for denial. The information is also combined with data obtained from the Bureau of Alcohol, Tobacco, Firearms, and Explosives on appeals of denied applications and arrests for falsified documents. The Bureau of Justice Statistics uses this information in published reports and in responding to queries from the U.S. Congress, Executive Office of the President, state officials, researchers, students, the media, the general public, and others interested in criminal justices statistics.

(5) An estimate of the total number of respondents and the amount of time estimated for an average respondent to respond: 761 responses at 25 minutes each. Respondents have the option to provide responses using either paper or web-based questionnaires. The burden estimate is based on the results of the field test of the 2012 Firearm Inquiry Statistics Program survey instrument and feedback received from the 2012 data collection, as well as the Bureau of Justice Statistics' extensive history conducting the FIST data collection.

(6) An estimate of the total public burden (in hours) associated with the collection: There are an estimated 317 annual total burden hours associated with the collection.

If additional information is required contact: Jerri Murray, Department Clearance Officer, United States Department of Justice, Justice Management Division, Policy and Planning Staff, Two Constitution Square, 145 N Street NE., Washington, DC 20530.

Dated: November 18, 2013.
Jerri Murray,
Department Clearance Officer, PRA, U.S. Department of Justice.

[FR Doc. 2013-27963 Filed 11-20-13; 8:45 am]

BILLING CODE 4410-18-P